ENVIRONMENTAL PROTECTION AGENCY

[FRL-9912-77-OA]

Notification of a Public Teleconference of the Science Advisory Board Environmental Justice Technical Guidance Review Panel

AGENCY: Environmental Protection Agency.

ACTION: Notice.

SUMMARY: The Environmental Protection Agency (EPA) Science Advisory Board (SAB) Staff Office announces a teleconference of the Environmental Justice Technical Guidance (EJTG) Review Panel. A public teleconference will be held to discuss the draft report of the panel.

DATES: A public teleconference to discuss the draft report of the EJTG review panel will be held on July 22, 2014 from 1:00 p.m. to 5:00 p.m. (Eastern Time).

ADDRESSES: The public teleconference will be conducted by telephone only.

FOR FURTHER INFORMATION CONTACT: Any member of the public who wants further information concerning this public meeting may contact Dr. Sue Shallal, Designated Federal Officer (DFO), via telephone at (202) 564-2057 or email at shallal.suhair@epa.gov. General information concerning the SAB can be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB EJTG Review Panel will hold a public teleconference. The purpose of the teleconference is to discuss the panel's draft report. This SAB panel will provide advice to the Administrator through the chartered SAB.

Background: The EPA's National Center for Environmental Economics along with the Office of Environmental Justice has requested that the SAB peer review their Draft Technical Guidance for Assessing Environmental Justice in Regulatory Analysis (May 1, 2013). The SAB EJTG Review Panel met on January 30-31, 2014 to conduct a peer review of the draft technical guidance (78 FR 77673-77674). Additional information about this advisory activity, including the formation of the SAB EJTG Review Panel, can be found at the following URL: http://yosemite.epa.gov/sab/sabproduct.nsf/fedrgstr_activites/EJ%20Technical%20Guidance?OpenDocument. The July 22, 2014 teleconference is being held for the EJTG Review Panel to discuss its draft peer review report.

Technical Contacts: Any technical questions concerning EPA's draft technical document should be directed to Dr. Kelly Maguire at (202) 566-2273 or by email at maguire.kelly@epa.gov.

Availability of Meeting Materials: Prior to the meeting, the review documents, agenda and other materials will be accessible through the calendar link on the blue navigation bar at http://www.epa.gov/sab/. Materials may also be accessed at the following SAB Web page http://yosemite.epa.gov/sab/sabproduct.nsf/fedrgstr_activites/EJ%20Technical%20Guidance?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation on a teleconference will be limited to 3 minutes and oral presentation at a face-to-face meeting will be limited to five minutes. Interested parties should contact Dr. Sue Shallal, DFO, in writing (preferably via email) at the contact information noted above by July 11, 2014 to be placed on the list of public speakers for the teleconference. Written Statements: Written statements will be accepted throughout the advisory process; however, for timely consideration by Committee/Panel members, statements should be supplied to the DFO via email at the contact information noted above at least one week prior to a public meeting. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Sue Shallal at (202) 564-2057 or shallal.suhair@epa.gov. To request accommodation of a disability, please contact Dr. Shallal preferably at least ten days prior to the meeting to give EPA as much time as possible to process your request.

Dated: June 13, 2014.
Thomas H. Brennan,
Deputy Director, EPA Science Advisory Board Staff Office.

[FR Doc. 2014-14677 Filed 6-23-14; 8:45 am]

BILLING CODE 6560-50-P